DEPARTMENT OF JUSTICE

Antitrust Division

Notice Pursuant to the National Cooperative Research and Production Act of 1993—Petroleum Environmental Research Forum Project No. 2002-13

Notice is hereby given that, on October 20, 2004, pursuant to section 6(a) of the National Cooperative Research and Production Act of 1993, 15 U.S.C. 4301 et seq. (“the Act”), Petroleum Environmental Research Forum Project No. 2002-13 (“PERF Project No. 2002-13”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: ExxonMobil Research and Engineering Company, Fairfax, VA; ConocoPhillips Company, Houston, TX; and Unocal, Sugarland, TX. The nature and objectives of the venture are to create a forum for sharing information regarding the industry's water management practices. This may include water reuse solutions in practice, rejected reuse solutions, case studies in the area of water reuse/minimization/optimization, produced water reclamation, wastewater recovery, and tools used to develop these solutions. The program will be carried out through compiling, presenting and exchanging of individual research projects, including identification of methods to improve water management for industry.

Dorothy B. Fountain,
Deputy Director of Operations, Antitrust Division.

[FR Doc. 04-25853 Filed 11-19-04; 8:45 am]

BILLING CODE 4410-11-M